COMMISSION ON CIVIL RIGHTS

Notice of Public Meeting of the District of Columbia Advisory Committee; Correction

AGENCY: Commission on Civil Rights.

ACTION: Notice; Revision to registration links and telephone access information.

SUMMARY: The U.S. Commission on Civil Rights published a notice in the Federal Register on Monday, June 5, 2023, concerning meetings of the District of Columbia Advisory Committee. The registration links and telephone access information for the upcoming meetings have been updated.

FOR FURTHER INFORMATION CONTACT: Ivy Davis, Director of Eastern Regional Office and Designated Federal Officer, at ero@usccr.gov or 1-202-539-8468.

Correction: In the Federal Register on Monday, June 5, 2023, in FR Document Number 2023-11829, on page 36527, second column, correct the registration links and telephone access information as follows:

• Meeting on Tuesday, November 21, 2023: http://bit.ly/46S4uyX; Telephone Access (Audio Only): 1-833-435-1820, Webinar ID: 160 065 4861#.

• Meeting on Tuesday, December 19, 2023: https://bit.ly/3QlnqiE; Telephone Access (Audio Only): 1-833-435-1820, Webinar ID: 161 082 8553#.

Dated: October 31, 2023.
David Mussatt,
Supervisory Chief, Regional Programs Unit.

[FR Doc. 2023-24362 Filed 11-2-23; 8:45 am]

BILLING CODE P